DEPARTMENT OF COMMERCE

International Trade Administration

[A-122-847]

Notice of Amended Final Determination of Sales at Less Than Fair Value: Hard Red Spring Wheat From Canada

AGENCY: Import Administration, International Trade Administration, Department of Commerce.

ACTION: Notice of Amended Final Determination of Sales at Less Than Fair Value.

EFFECTIVE DATE: October 6, 2003.

FOR FURTHER INFORMATION CONTACT: Julie Santoboni or Cole Kyle, Office 1, AD/CVD Enforcement, Import Administration, International Trade Administration, U.S. Department of Commerce, 14th Street and Constitution Avenue, NW, Washington DC 20230; telephone (202) 482-4194 or (202) 482-1503, respectively.

Scope of the Investigation

For purposes of this investigation, the products covered are all varieties of hard red spring (“HRS”) wheat from Canada. This includes, but is not limited to, varieties commonly referred to as Canada Western Red Spring, Canada Western Extra Strong, and Canada Prairie Spring Red. The merchandise subject to this investigation is currently classifiable under the following Harmonized Tariff Schedule of the United States (“HTSUS”) subheadings: 1001.90.10.00, 1001.90.20.05, 1001.90.20.11, 1001.90.20.12, 1001.90.20.13, 1001.90.20.14, 1001.90.20.16, 1001.90.20.19, 1001.90.20.21, 1001.90.20.22, 1001.90.20.23, 1001.90.20.24, 1001.90.20.26, 1001.90.20.29, 1001.90.20.35, and 1001.90.20.96. This investigation does not cover imports of wheat that enter under the subheadings 1001.90.10.00 and 1001.90.20.96 that are not classifiable as hard red spring wheat. Although the HTSUS subheadings are provided for convenience and customs purposes, our written description of the scope of this proceeding is dispositive.

Amended Final Determination

On August 28, 2003, the Department of Commerce (“the Department”) determined that HRS wheat from Canada is being, or is likely to be, sold in the United States at less than fair value (“LTFV”), as provided in section 735(a) of the Tariff Act of 1930, as amended (“the Act”). See Notice of Final Determinations of Sales at Less Than Fair Value: Certain Durum and Hard Red Spring Wheat from Canada, 68 FR 52741 (September 5, 2003). On September 8, 2003, we received ministerial error allegations, timely filed pursuant to 19 CFR. 351.224(c)(2), from the Canadian Wheat Board (“the CWB”) regarding the Department's final margin calculations. The CWB requests that we correct the errors and publish a notice of amended final determination in the Federal Register, pursuant to 19 CFR. 351.224(e). The CWB's submission alleges the following with regard to the Department's cost of production (“COP”) calculations.

Farmer 8—The CWB alleges that the Department inadvertently double-counted seed cleaning costs.

Farmer 17—The CWB alleges that the Department inadvertently double-counted certain labor costs.

Farmer 19—The CWB alleges that the Department inadvertently used an incorrect production quantity for the calculation of the crop insurance offset.

Farmer 20—The CWB alleges that the Department inadvertently allocated water rights costs to owned and rented land, rather than just owned land. The CWB also alleges that the Department inadvertently mis-allocated fixed and variable overhead costs.

Farmer 23—The CWB alleges that the Department inadvertently understated actual labor costs allocated to livestock, thereby overstating the general and administrative (“G&A”) and interest expenses allocated to HRS. The CWB also alleges that the Department inadvertently excluded variable overhead costs related to non-farming activities, thereby overstating the G&A and interest expenses allocated to HRS.

The North Dakota Wheat Commission (“the petitioner”) submitted comments on the CWB's ministerial error allegations on September 10, 2003. The petitioner did not comment on the CWB's ministerial error allegations for Farmer 8 and the allocation of labor costs to livestock for Farmer 23. In response to the CWB's other allegations, the petitioner argues that they were not ministerial.

In accordance with section 735(e) of the Act, we have determined that certain ministerial errors were made in the calculation of the CWB's COP and constructed value (“CV”) in our final margin calculations. For a detailed discussion of the above-cited ministerial error allegations and the Department's analysis, see Memorandum to Jeffrey A. May, “Allegation of Ministerial Errors; Final Determination in the Antidumping Duty Investigation of Certain Hard Red Spring Wheat from Canada” dated September 26, 2003, which is on file in room B-099 of the main Commerce building.

Therefore, in accordance with 19 CFR 351.224(e), we are amending the final determination of the antidumping duty investigation of HRS Wheat from Canada to correct the ministerial errors found in the calculation of the COP and CV. The final weighted-average dumping margins are:

Exporter/manufacturer | Original weighted-average margin percentage | Amended weighted-average margin percentage
Canadian Wheat Board | 8.87 | 8.86
All Others | 8.87 | 8.86

Continuation of Suspension of Liquidation

In accordance with section 735(c)(1)(B)(ii) of the Act, we are directing the U.S. Bureau of Customs and Border Protection (“BCBP”) to continue to suspend liquidation of all imports of subject merchandise from Canada that are entered, or withdrawn from warehouse, for consumption on or after May 8, 2003, the date of publication of the Notice of Preliminary Determinations of Sales at Less Than Fair Value: Certain Durum and Hard Red Spring Wheat from Canada, 68 FR 24707 (May 8, 2003) in the Federal Register. The BCBP shall continue to require a cash deposit or the posting of a bond equal to the weighted-average amount by which the NV exceeds the EP, as indicated in the chart above. These suspension-of-liquidation instructions will remain in effect until further notice.

ITC Notification

In accordance with section 735(d) of the Tariff Act, we have notified the International Trade Commission of our amended final determination.

This determination is issued and published in accordance with sections 735(d) and 777(i)(1) of the Act.

Dated: September 29, 2003.
James J. Jochum,
Assistant Secretary for Import Administration.

[FR Doc. 03-25279 Filed 10-3-03; 8:45 am]

BILLING CODE 3510-DS-P